FEDERAL RETIREMENT THRIFT INVESTMENT BOARD

Notice of Board Meeting

DATES: April 25, 2023 at 10 a.m.

ADDRESSES: Telephonic. Dial-in (listen only) information: Number: 1-202-599-1426, Code: 298 441 996#; or via web: https://teams.microsoft.com/l/meetup-join/19%3ameeting_NWFmM2U5Y2QtZGFiYi00YTFjLThkZWItNDQ0Y2EyZTM4OGIw%40thread.v2/0?context=%7b%22Tid%22%3a%223f6323b7-e3fd-4f35-b43d-1a7afae5910d%22%2c%22Oid%22%3a%221a441fb8-5318-4ad0-995b-f28a737f4128%22%7d.

FOR FURTHER INFORMATION CONTACT: Kimberly Weaver, Director, Office of External Affairs, (202) 942-1640.

SUPPLEMENTARY INFORMATION:

Board Meeting Agenda

Open Session

1. Approval of the March 28, 2023 Board Meeting Minutes

2. Monthly Reports

(a) Participant Activity Report

(b) Legislative Report

3. Quarterly Reports

(c) Budget Review

(d) Audit Status

(e) Investment Review

4. OI Presentation

5. Enterprise Risk Management Update

Closed Session

6. Information covered under 5 U.S.C. 552b (c)(9)(B) and (c)(10)

Authority: 5 U.S.C. 552b (e)(1).

Dated: April 13, 2023.
Dharmesh Vashee,
General Counsel, Federal Retirement Thrift Investment Board.

[FR Doc. 2023-08154 Filed 4-17-23; 8:45 am]

BILLING CODE P